DEPARTMENT OF COMMERCE

International Trade Administration

[A-520-803]

Polyethylene Terephthalate Film, Sheet, and Strip from the United Arab Emirates: Final Determination of Sales at Less Than Fair Value

AGENCY: Import Administration, International Trade Administration, Department of Commerce.

SUMMARY: On May 5, 2008, the Department of Commerce (Department) published its preliminary determination of sales at less than fair value (LTFV) in the antidumping investigation of polyethylene terephthalate film, sheet and strip (PET film) from the United Arab Emirates (UAE). On August 4, 2008, the Department issued a decision memorandum concerning the targeted dumping allegation by petitioners. See Memorandum to Stephen Claeys, Deputy Assistant Secretary for Import Administration, from Barbara E. Tillman, Director, AD/CVD Operations, Office 6, Antidumping Duty Investigation of Polyethylene Terephthalate Film, Sheet, and Strip (PET Film) from the United Arab Emirates: Analysis of Petitioners' Allegation of Targeting Dumping, dated August 4, 2008 (Targeted Dumping Memorandum). In that memorandum, we found that petitioners had not provided sufficient information to warrant a targeted dumping analysis. We invited interested parties to comment on our preliminary determination of sales at LTFV and on our targeted dumping decision. Based on our analysis of the comments received, we have made changes to our calculations for the sole respondent. See “Changes Since the Preliminary Determination” section below. We determine that PET film from the UAE is being, or is likely to be, sold in the United States at LTFV as provided in section 735 of the Tariff Act of 1930, as amended (the Act). The final dumping margins for this investigation are listed in the “Final Determination Margins” section below.

EFFECTIVE DATE: September 24, 2008.

FOR FURTHER INFORMATION CONTACT: Douglas Kirby or Myrna Lobo, AD/CVD Operations, Office 6, Import Administration, International Trade Administration, U.S. Department of Commerce, 14th Street and Constitution Avenue, NW, Washington, DC 20230; telephone: (202) 482-3782 or (202) 482-2371, respectively.

SUPPLEMENTARY INFORMATION: The Department published its preliminary determination of sales at LTFV on May 5, 2008. See Polyethylene Terephthalate Film, Sheet, and Strip from the United Arab Emirates: Preliminary Determination of Sales at Less Than Fair Value and Postponement of Final Determination, 73 FR 24547 (May 5, 2008) (Preliminary Determination). Additionally, the Department postponed the deadline for the final determination to the 135th day following publication of the Preliminary Determination. See id. at 24548. As a result, the deadline for this final determination is September 17, 2008. See id. The petitioners are DuPont Teijin Films, Mitsubishi Polyester Film of America, Inc., SKC, Inc. and Toray Plastics (America), Inc. (collectively, the petitioners). The respondent for this investigation is Flex Middle East FZE (Flex UAE).

On March 21, 2008, the petitioners submitted a timely allegation that Flex UAE engaged in targeted dumping during the POI in accordance with 19 CFR 351.301(d)(5). On March 31, 2008, Flex UAE submitted comments in response to the petitioners' targeted dumping allegation. On April 11, 2008, the Department requested additional information from the petitioners regarding their targeted dumping allegation, which was submitted on April 21, 2008. Since there was not sufficient time to analyze the information and fully consider the petitioners' allegation before the preliminary determination, the Department stated in the Preliminary Determination that it would issue a decision regarding targeted dumping following the issuance of the preliminary determination, and would allow parties to comment on it prior to the final determination. After reviewing petitioners' April 21, 2008 supplemental information, the Department determined that additional information was needed from petitioners and issued a second request for information on June 6, 2008. Petitioners filed their submission on June 9, 2008. On August 4, 2008 the Department issued the Targeted Dumping Memorandum in which we determined that petitioners had not provided sufficient information to warrant a targeted dumping analysis. See “Targeted Dumping” section below for additional information.

Cost and sales verifications of Flex UAE were conducted by the Department in May 2008, and a sales verification of Flex UAE's U.S. affiliate, Flex America Inc. (Flex America) was conducted in July 2008. See the “Verification” section below for additional information.

Upon the release of the last verification report on August 11, 2008, we invited parties to comment on the Preliminary Determination, the targeted dumping decision, and the verification reports. On August 18, 2008, petitioners and respondents filed timely case briefs. On August 22, 2008, both parties filed rebuttal briefs. No parties requested a hearing.

Period of Investigation

The period of investigation (POI) is July 1, 2006 through June 30, 2007.

Scope of the Investigation

The products covered by this investigation are all gauges of raw, pre-treated, or primed PET film, whether extruded or co-extruded. Excluded are metallized films and other finished films that have had at least one of their surfaces modified by the application of a performance-enhancing resinous or inorganic layer more than 0.00001 inches thick. Also excluded is Roller transport cleaning film which has at least one of its surfaces modified by application of 0.5 micrometers of SBR latex. Tracing and drafting film is also excluded. PET film is classifiable under subheading 3920.62.00.90 of the Harmonized Tariff Schedule of the United States (HTSUS). While HTSUS subheadings are provided for convenience and U.S. Customs and Border Protection (CBP) purposes, our written description of the scope of this investigation is dispositive.

Analysis of Comments Received

All issues raised in the case and rebuttal briefs by parties to this investigation are addressed in the memorandum from Stephen J. Claeys, Deputy Assistant Secretary for Import Administration, to David M. Spooner, Assistant Secretary for Import Administration, Issues and Decision Memorandum for the Final Determination of Sales at Less Than Fair Value: Polyethylene Terephthalate Film, Sheet, and Strip from the United Arab Emirates (UAE) (Issues and Decision Memorandum), dated concurrently with this notice and which is hereby adopted by this notice. A list of the issues which parties raised and to which we respond in the Issues and Decision Memorandum is attached to this notice as an appendix. The Issues and Decision Memorandum is a public document and is on file in the Central Records Unit (CRU), Main Commerce Building, Room 1117, and is accessible on the World Wide Web at http://ia.ita.doc.gov/frn . The paper copy and electronic version of the memorandum are identical in content.

Targeted Dumping

On August 4, 2008, the Department issued its Targeted Dumping Memorandum, finding that the petitioners' allegation did not provide sufficient information and analysis to warrant the conduct of a targeted dumping analysis. The Department therein recommended applying the standard methodology of comparing weighted-average normal values to weighted-average export prices (or constructed export prices) for purposes of calculating the dumping margin for the final determination. After considering comments received in the case and rebuttal briefs, the Department continues to find that petitioners' allegations of targeted dumping do not provide a reasonable basis to find a pattern of export prices for comparable merchandise that differ significantly among purchasers. We determine further that petitioners did not demonstrate that any such differences could not be taken into account using the average-to-average methodology, pursuant to section 777A(d)(1)(B) of the Act. We therefore conclude that, for this final determination, we will continue to utilize the average-to-average methodology in calculating the final margin for respondent. For further discussion, see Comment 12 in the Issues and Decision Memorandum.

Changes Since the Preliminary Determination

Based on our analysis of information on the record of this investigation, and comments received from the interested parties, we have made changes to the margin calculations for Flex UAE. We have also considered information received in response to our April 25, 2008 questionnaire and information obtained at verification. As a result, we have reclassified certain channel 2 and channel 3 sales as channel 1 (direct) sales. Further, we have revised the date of sale for Flex UAE's channel 1 sales and recalculated credit expenses and inventory carrying costs for the different channels as necessary. We have also made adjustments to normal value (NV) for customs clearance fees and export credit insurance, and to CEP for bank charges, sample sales expenses and cash discounts as required. In addition, we have made corrections to Flex UAE's cost of production. All of these changes are fully discussed in the Issues and Decision Memorandum, the Analysis Memorandum for the Final Determination of Sales at Less Than Fair Value: Polyethylene Terephthalate Film, Sheet, and Strip from the United Arab Emirates, dated September 17, 2008, and the Memorandum to Neal M. Halper, Director, Office of Accounting, Cost of Production and Constructed Value Calculation Adjustments for the Final Determination - Flex Middle East FZE, dated September 17, 2008.

Verification

As provided in section 782(i) of the Act, we verified the sales and cost information submitted by Flex UAE for use in our final determination. We also conducted a sales verification of Flex UAE's U.S. affiliate Flex America. We used standard verification procedures including an examination of relevant accounting and production records, and original source documents provided by Flex UAE and Flex America. See Memorandum to the File, Verification of the Sales Response of Flex Middle East (FZE) in the Antidumping Investigation of Polyethylene Terephthalate Film, Sheet and Strip (PET film) from the United Arab Emirates (UAE), dated July 23, 2008; Memorandum to Neal M. Halper, Director, Office of Accounting, Verification of the Cost of Production and Constructed Value Data Submitted by Flex Middle East FZE in the Antidumping Duty Investigation of Polyethylene Terephthalate (PET) Film, Sheet, and Strip from United Arab Emirates, dated July 8, 2008; and Memorandum to the File, Verification of the Sales Response of Flex America Inc. in the Antidumping Investigation of Polyethylene Terephthalate Film, Sheet and Strip (PET Film) from the United Arab Emirates (UAE), dated August 11, 2008.

All-Others Rate

Pursuant to section 735(c)(5)(A) of the Act, the all-others rate is equal to the weighted average of the dumping margins of each respondent investigated, excluding zero or de minimis margins and any margins determined exclusively under section 776 of the Act. Flex UAE is the only respondent in this investigation for which the Department has calculated a rate. Therefore, for purposes of determining the all-others rate and pursuant to section 735(c)(5)(A) of the Act, we are using the rate calculated for Flex UAE as the all-others rate, as referenced in the “Final Determination Margins” section below.

Final Determination Margins

We determine that the weighted-average dumping margins are as follows:

Producer/Exporter | Weighted-Average Margin
Flex Middle East FZE | 4.80%%
All Others | 4.80%%

Disclosure

We will disclose the calculations performed in reaching this final determination within five days of the date of public announcement of this determination to parties in this proceeding in accordance with 19 CFR 351.224(b).

Continuation of Suspension of Liquidation

Pursuant to section 735(c)(1)(B) of the Act, we will instruct CBP to continue to suspend liquidation of all entries of subject merchandise from the UAE entered, or withdrawn from warehouse, for consumption on or after May 5, 2008, the date of publication of the Preliminary Determination. We will instruct CBP to require a cash deposit or the posting of a bond equal to the weighted-average dumping margins, as indicated in the chart above, as follows: (1) the rate for the firm listed above will be the rate we have determined in this final determination; (2) if the exporter is not a firm identified in this investigation, but the producer is, the rate will be the rate established for the producer of the subject merchandise; (3) the rate for all other producers or exporters will be 4.80 percent. The suspension of liquidation will remain in effect until further notice.

International Trade Commission Notification

In accordance with section 735(d) of the Act, we have notified the International Trade Commission (ITC) of our final determination. As our final determination is affirmative, and in accordance with section 735(b)(2) of the Act, the ITC will determine, within 45 days, whether the domestic industry in the United States is materially injured, or threatened with material injury, by reason of imports, or sales (or the likelihood of sales) for importation, of the subject merchandise. If the ITC determines that such injury does exist, the Department will issue an antidumping duty order directing CBP to assess antidumping duties on all imports of the subject merchandise entered, or withdrawn from warehouse, for consumption on or after the effective date of the suspension of liquidation.

Return or Destruction of Proprietary Information

This notice will serve as the only reminder to parties subject to administrative protective order (“APO”) of their responsibility concerning the destruction of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: September 17, 2008.
Stephen J. Claeys,
Acting Assistant Secretary for Import Administration.

Appendix - Issues in Decision Memorandum

Comment 1: Date of Sale/Credit Expenses for U.S. Channel 1 Sales

Comment 2: Calculation of Inventory Carrying Costs for U.S. Sales

Comment 3: Reclassification of Direct Sales Reported as Channel 3 Sales

Comment 4: Correction to Erroneous Calculation for a U.S. Credit Expense

Comment 5: Treatment of Bank Charges Incurred on U.S. Sales

Comment 6: Unreported Cash Discounts for a U.S. Sale

Comment 7: Treatment of U.S. Sample Sales

Comment 8: Whether to Adjust Normal Value for Customs Clearance Fees Incurred on Home Market Sales

Comment 9: Whether to Adjust Normal Value for Export Credit Insurance Incurred on Home Market Sales

Comment 10: Whether to Include the Surrogate Cost for a Domestic Product Sold but Not Produced During the POI

Comment 11: Corrections to Flex UAE's Reported Cost of Production

Comment 12: Targeted Dumping

[FR Doc. E8-22453 Filed 9-23-08; 8:45 am]

BILLING CODE 3510-DS-S